DEPARTMENT OF DEFENSE

Office of the Secretary

Charter Renewal of Department of Defense Federal Advisory Committees

AGENCY: Department of Defense.

ACTION: Renewal of Federal Advisory Committee.

SUMMARY: The Department of Defense is publishing this notice to announce that it is renewing the charter for the Board of Visitors of the U.S. Air Force (“the Board”).

FOR FURTHER INFORMATION CONTACT: Jim Freeman, Advisory Committee Management Officer for the Department of Defense, 703-692-5952.

SUPPLEMENTARY INFORMATION: The Board's charter is being renewed pursuant to 10 U.S.C. 9355 and in accordance with the Federal Advisory Committee Act (FACA) of 1972 (5 U.S.C., Appendix, as amended) and 41 CFR 102-3.50(a). The Board's charter and contact information for the Board's Designated Federal Officer (DFO) can be found at https://www.facadatabase.gov/FACA/apex/FACAPublicAgencyNavigation.

The Board provides the Secretary of Defense and the Deputy Secretary of Defense, through the Secretary of the Air Force, and to the Committee on Armed Services of the Senate and the Committee on Armed Services of the House of Representatives independent advice and recommendations on the morale and discipline, social climate, the curriculum, instruction, physical equipment, fiscal affairs, academic methods and other matters relating to the Academy that the Board decides to consider.

Pursuant to 10 U.S.C. 9355(f), the Board shall prepare a semiannual report containing its views and recommendations pertaining to the Academy, based on its meeting since the last such report and any other considerations it determines relevant. Each report shall be submitted concurrently to the Secretary of Defense, through the Secretary of the Air Force, and to the Committee on Armed Services of the Senate and the Committee on Armed Services of the House of Representatives.

The Board, pursuant to 10 U.S.C. 9355(a) and (b)(2), shall be constituted annually and composed of 15 members: a. Six persons designated by the President, at least two of whom shall be graduates of the Academy; b. The Chair of the Committee on Armed Services of the House of Representatives, or designee; c. Four persons designated by the Speaker of the House of Representatives, three of whom shall be members of the House of Representatives and the fourth of whom may not be a member of the House of Representatives; d. The Chair of the Committee on Armed Services of the Senate, or designee; and e. Three other members of the Senate designated by the Vice President or the President pro tempore of the Senate, two of whom are members of the Committee on Appropriations of the Senate.

Pursuant to 10 U.S.C. 9355(b)(1), Board members designated by the President shall serve for three years each, except that any member whose term of office has expired shall continue to serve until a successor is designated. The President shall designate persons each year to succeed the members whose terms expire that year.

Pursuant to 10 U.S.C. 9355(c)(1), if a member of the Board dies or resigns, or is terminated as a member of the Board pursuant to 10 U.S.C. 9355(c)(2), a successor shall be designated for the unexpired portion of the term by the official who designated the member.

If a member of the Board fails to attend two successive Board meetings, except in a case in which an absence is approved in advance for good cause by the Board Chair, such failure shall be grounds for termination from membership on the Board, pursuant to 10 U.S.C. 9355(c)(2)(A) (“absenteeism provision”).

Pursuant to 10 U.S.C. 9355(c)(2)(B), termination of membership on the Board pursuant to the absenteeism provision, in the case of a member of the Board who is not a member of Congress, may be made by the Board's Chair and, in the case of a member of the Board who is a member of Congress, may be made only by the official who designated the member. Pursuant to 10 U.S.C. 9355(c)(2)(C), when a member of the Board is subject to termination from membership on the Board under the absenteeism provision, the Board's Chair shall notify the official who designated the member. Upon receipt of such a notification with respect to a member of the Board who is a member of Congress, the official who designated the member shall take such action as that official considers appropriate.

The Board members shall select the Chair and Vice Chair from the total membership. Except for reimbursement of official Board-related travel and per diem, Board members serve without compensation.

The Board may, pursuant to 10 U.S.C. 9355(g) and upon approval by the Secretary of the Air Force, call in advisors for consultation. These advisors shall, with the exception of reimbursement of official Board-related travel and per diem, serve without compensation.

The public or interested organizations may submit written statements to the Board membership about the Board's mission and functions. Written statements may be submitted at any time or in response to the stated agenda of planned meeting of the Board. All written statements shall be submitted to the DFO for the Board, and this individual will ensure that the written statements are provided to the membership for their consideration.

Dated: November 2, 2018.
Aaron T. Siegel,
Alternate OSD Federal Register Liaison Officer, Department of Defense.

[FR Doc. 2018-24370 Filed 11-6-18; 8:45 am]

BILLING CODE 5001-06-P